NATIONAL ARCHIVES AND RECORDS ADMINISTRATION

Information Security Oversight Office

[NARA-2015-048]

State, Local, Tribal, and Private Sector Policy Advisory Committee (SLTPS-PAC)

AGENCY: National Archives and Records Administration (NARA).

ACTION: Notice of advisory committee meeting.

SUMMARY: In accordance with the Federal Advisory Committee Act (5 U.S.C. app 2) and implementing regulation 41 CFR 101-6, NARA announces the following committee meeting.

DATES: The meeting will be on July 22, 2015, from 10:00 a.m. to 12:00 p.m. EDT.

ADDRESSES: National Archives and Records Administration; 700 Pennsylvania Avenue NW.; Jefferson Room; Washington, DC 20408.

FOR FURTHER INFORMATION CONTACT: Robert J. Skwirot, Senior Program Analyst, by mail at ISOO, National Archives Building; 700 Pennsylvania Avenue NW., Washington, DC 20408, by telephone at (202) 357-5398, or by email at robert.skwirot@nara.gov. Contact ISOO at ISOO@nara.gov.

SUPPLEMENTARY INFORMATION: The purpose of this meeting is to discuss matters relating to the Classified National Security Information Program for State, Local, Tribal, and Private Sector Entities. The meeting will be open to the public. However, due to space limitations and access procedures, you must submit the name and telephone number of individuals planning to attend to the Information Security Oversight Office (ISOO) no later than Friday, July 17, 2015. ISOO will provide additional instructions for accessing the meeting's location.

Dated: June 11, 2015.
Patrice Little Murray,
Committee Management Officer.

[FR Doc. 2015-15033 Filed 6-17-15; 8:45 am]

BILLING CODE 7515-01-P